DEPARTMENT OF TRANSPORTATION

National Highway Traffic Safety Administration

[Docket No. NHTSA-2005-20321]

Decision That Certain Nonconforming Motor Vehicles are Eligible for Importation

AGENCY: National Highway Traffic Safety Administration (NHTSA), DOT.

ACTION: Notice of decision by NHTSA that certain nonconforming motor vehicles are eligible for importation.

SUMMARY: This document announces decisions by NHTSA that certain motor vehicles not originally manufactured to comply with all applicable Federal motor vehicle safety standards are eligible for importation into the United States because they are substantially similar to vehicles originally manufactured for importation into and/or sale in the United States and certified by their manufacturers as complying with the safety standards, and they are capable of being readily altered to conform to the standards.

DATES: These decisions became effective on the dates specified in Annex A.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Where there is no substantially similar U.S.-certified motor vehicle, 49 U.S.C. 30141(a)(1)(B) permits a nonconforming motor vehicle to be admitted into the United States if its safety features comply with, or are capable of being altered to comply with, all applicable Federal motor vehicle safety standards based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions. No substantive comments were received in response to these notices. Based on its review of the information submitted by the petitioners, NHTSA has decided to grant the petitions.

Vehicle Eligibility Number for Subject Vehicles

The importer of a vehicle admissible under any final decision must indicate on the form HS-7 accompanying entry the appropriate vehicle eligibility number indicating that the vehicle is eligible for entry. Vehicle eligibility numbers assigned to vehicles admissible under this decision are specified in Annex A.

Final Decision

Accordingly, on the basis of the foregoing, NHTSA hereby decides that each motor vehicle listed in Annex A to this notice, which was not originally manufactured to comply with all applicable Federal motor vehicle safety standards, is either (1) substantially similar to a motor vehicle manufactured for importation into and/or sale in the United States, and certified under 49 U.S.C. 30115, as specified in Annex A, and is capable of being readily altered to conform to all applicable Federal motor vehicle safety standards or (2) has safety features that comply with, or are capable of being altered to comply with, all applicable Federal motor vehicle safety standards.

Authority: 49 U.S.C. 30141(a)(1)(A) and (b)(1); 49 CFR 593.8; delegations of authority at 49 CFR 1.50 and 501.8.

Claude H. Harris,
Director, Office of Vehicle Safety Compliance.

Annex A.—Nonconforming Motor Vehicles Decided To Be Eligible for Importation

1. Docket No. NHTSA-2004-19486

Nonconforming Vehicles: 2001-2002 Mercedes Benz C Class (203) Passenger Cars.

Substantially Similar

U.S.-Certified Vehicles: 2001-2002 Mercedes Benz C-320 (203) Passenger Cars.

Notice of Petition

Published at: 69 FR 64127 (November 3, 2004).

Vehicle Eligibility Number: VSP-456 (effective date December 14, 2004).

2. Docket No. NHTSA-2004-19122

Nonconforming Vehicles: 2004 Lamborghini Gallardo Passenger Cars (Manufactured 1/1/2004-12/31/2004).

Substantially Similar

U.S.-Certified Vehicles: 2004 Lamborghini Passenger Cars (Manufactured 1/1/2004-12/31/2004).

Notice of Petition

Published at: 69 FR 60933 (October 13, 2004).

Vehicle Eligibility Number: VSP-458 (effective date December 20, 2004).

3. Docket No. NHTSA-2004-19548

Nonconforming Vehicles: 1998 Lexus GS300 Passenger Cars.

Substantially Similar

U.S.-Certified Vehicles: 1998 Lexus GS300 Passenger Cars.

Notice of Petition

Published at: 69 FR 67209 (November 16, 2004).

Vehicle Eligibility Number: VSP-460 (effective date December 22, 2004).

4. Docket No. NHTSA-2004-19547

Nonconforming Vehicles: 2003-2004 BMW X5 Multipurpose Passenger Vehicles (Manufactured 1/1/2003-12/31/2004).

Substantially Similar

U.S.-Certified Vehicles: 2003-2004 BMW X5 Multipurpose Passenger Vehicles (Manufactured 1/1/2003-12/31/2004).

Notice of Petition

Published at: 69 FR 67207 (November 16, 2004).

Vehicle Eligibility Number: VSP-459 (effective date December 22, 2004).

5. Docket No. NHTSA-2004-19737

Nonconforming Vehicles: 2004 Mercedes Benz Type 463 Short Wheel Base (SWB) Gelaendewagen Multipurpose Passenger Vehicles.

Because there are no substantially similar U.S.-certified versions of the 2004 Mercedes Benz Type 463 SWB Gelaendewagen Multipurpose Passenger Vehicles, the petition sought import eligibility under 49 U.S.C. 30141(a)(1)(B).

Notice of Petition

Published at: 69 FR 70504 (December 6, 2004).

Vehicle Eligibility Number: VCP-28 (effective date January 11, 2005).

6. Docket No. NHTSA-2004-19875

Nonconforming Vehicles: 1998 BMW 3 Series Passenger Cars.

Substantially Similar

U.S.-Certified Vehicles: 1998 BMW 3 Series Passenger Cars.

Notice of Petition

Published at: 69 FR 77314 (December 27, 2004).

Vehicle Eligibility Number: VSP-462 (effective date January 31, 2005).

[FR Doc. 05-4906 Filed 3-11-05; 8:45 am]

BILLING CODE 4910-59-P